Title 3—

The President

Proclamation 9259 of April 21, 2015

Earth Day, 2015

By the President of the United States of America

A Proclamation

Forty-five years ago, millions of Americans celebrated the first Earth Day in cities across our Nation. Having borne witness to years of environmental neglect, these ordinary citizens gathered in the streets, in parks, and on college campuses to demand change and commit to leaving a healthier planet for the next generation. Faced with contaminated rivers and polluted cities, they stood up, spoke out, and fought for air, water, and wildlife protections. Their voices galvanized a movement—leading to the creation of the Environmental Protection Agency and the passage of the Clean Air Act, the Clean Water Act, and the Endangered Species Act—and ignited a spirit of stewardship that continues to drive us to meet the challenges of our time.

Today, our planet faces new challenges, but none pose a greater threat to future generations than climate change. Science tells us the earth is warming—last year was the planet's warmest on record, and 14 of the 15 warmest recorded years have come in the first 15 years of this century—and human activity is the primary driver of the rapid warming of the past half-century. Climate change will have profound impacts on all humankind, and many Americans are already feeling the effects. The costs of more severe weather disasters can be measured in lost lives and livelihoods and in billions of dollars of emergency services, and the costs will only increase with time. Firefighters are braving longer wildfire seasons; farmers are confronting adverse growing conditions; and our children and most vulnerable populations are experiencing a range of climate-related health effects.

As a Nation, we must act before it is too late. That is why my Administration has taken a series of ambitious steps to combat climate change and protect our planet for our children and grandchildren. As part of my Climate Action Plan, we have proposed the first-ever carbon pollution limits for existing power plants. We have also partnered with communities to prepare for the impacts of a changing climate that we can no longer avoid. And I have protected more than 260 million additional acres of public lands and waters, safeguarding the natural bounty of our planet for ages to come.

The United States is committed to our role as a global leader in the fight against climate change, and last year, we jointly announced with China ambitious but achievable new targets for reducing greenhouse gases. I am also ensuring that our Federal Government leads by example by working to reduce Federal greenhouse gas emissions by 40 percent. My Administration will continue to engage with key stakeholders at home and abroad who share our hope for a cleaner world.

Protecting our planet will also require us to change the way we use energy, and my energy strategy recognizes this critical need. My Administration has made the largest investment in clean energy in American history, and today the United States generates more renewable energy than ever before—we harness 3 times as much wind power as we did when I took office and solar electricity generation has increased 20-fold. Mayors, Governors, and business leaders across the country are taking steps to deploy clean energy, boost energy efficiency, and create more sustainable communities and supply chains. We are promoting energy efficiency in our buildings and cars and working to ensure our Nation is a leader in the energy sources of tomorrow.

As caretakers of our planet, we all have an obligation to combat climate change and protect our earth for the next generation. The decisions we make today and in the years ahead will have a profound impact on the world we leave behind, and we must each do our part. We can reduce the energy used in our homes and offices; we can help protect our resources by recycling as part of our everyday routine; and we can raise our voices to support policies like the ones my Administration has put forth to protect our environment while strengthening our economy. On Earth Day, let us join with communities around the world, and as one people—who share one planet—let us recommit to meeting the test of our time and continuing our work to build a cleaner, safer, more stable world.

NOW, THEREFORE, I, BARACK OBAMA, President of the United States of America, by virtue of the authority vested in me by the Constitution and the laws of the United States, do hereby proclaim April 22, 2015, as Earth Day. I encourage all Americans to participate in programs and activities that will protect our environment and contribute to a healthy, sustainable future.

IN WITNESS WHEREOF, I have hereunto set my hand this twenty-first day of April, in the year of our Lord two thousand fifteen, and of the Independence of the United States of America the two hundred and thirty-ninth.

[FR Doc. 2015-09727

Filed 4-23-15; 8:45 am]

Billing code 3295-F5